DEPARTMENT OF COMMERCE

Foreign-Trade Zones Board

[S-147-2017]

Approval of Subzone Status; Plaza Warehousing & Realty Corporation; Caguas, Puerto Rico

On September 20, 2017, the Executive Secretary of the Foreign-Trade Zones (FTZ) Board docketed an application submitted by the Puerto Rico Trade and Export Company, grantee of FTZ 61, requesting subzone status subject to the existing activation limit of FTZ 61, on behalf of Plaza Warehousing & Realty Corporation, in Caguas, Puerto Rico.

The application was processed in accordance with the FTZ Act and Regulations, including notice in the Federal Register inviting public comment (82 FR 44558, September 25, 2017). The FTZ staff examiner reviewed the application and determined that it meets the criteria for approval.

Pursuant to the authority delegated to the FTZ Board's Executive Secretary (15 CFR Sec. 400.36(f)), the application to establish Subzone 61T was approved on January 18, 2018, subject to the FTZ Act and the Board's regulations, including Section 400.13, and further subject to FTZ 61's 1,821.07-acre activation limit.

Dated: January 18, 2018.
Elizabeth Whiteman,
Acting Executive Secretary.

[FR Doc. 2018-01141 Filed 1-22-18; 8:45 am]

BILLING CODE 3510-DS-P